DEPARTMENT OF AGRICULTURE

Submission for OMB Review; Comment Request

August 19, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Cooperative Agricultural Pest Survey .

OMB Control Number: 0579-0010.

Summary of Collection: The Plant Protection Act (7 U.S.C. 3301 et seq.) authorizes the Secretary of Agriculture, either independently or in cooperation with States, to carry out operations or measures to detect, eradicate, suppress, control, prevent, or retard the spread of plant pests and noxious weed that are new to or not yet widely distributed within the United States. The Animal and Plant Health Inspection Service (APHIS), Plant Protection and Quarantine (PPQ) along with the States and other agencies collects and manages data on plant pest, woods, and biological control agents through the Cooperative Agricultural Pest Survey. The program allows the States and PPQ to conduct surveys to detect and measure the presence of exotic plant pests and noxious weed and to enter survey data into a national computer-based system known as the National Agricultural Plant Information System (NAPIS).

Need and use of the information: APHIS will collect information using PPQ Form 391 and other forms to predict potential plant pest and noxious weed situations and to promptly detect and respond to the occurrence of new pest and to record the location of those pest incursions that could directly hinder the export of U.S. farm commodities. If the information were not collected, it would seriously impact APHIS' ability to timely assist farmers, State personnel, and other involved in agriculture and protection of the environment in order to plan pest control measures, detect new outbreaks, and to determine the threat posed by migratory pests.

Description of Respondents: State, Local or Tribal Government.

Number of Respondents: 54.

Frequency of Responses: Reporting; On occasion.

Total Burden Hours: 3,465.

Animal and Plant Health Inspection Service

Title: Plum Pox Compensation.

OMB Control Number: 0579-0159.

Summary of Collection: Under the Plant Protection Act (7 U.S.C. 7701—et seq.), the Secretary of Agriculture is authorized to prohibit or restrict the importation, entry, or movement of plants and plant pests to prevent the introduction of plant pests into the United States; and eradicating plant pests when eradication is feasible. The regulations in 7 CFR 301.74-5 permit owners of commercial stone fruit orchards and owners of fruit tree nurseries to receive compensation under certain circumstances. Owners of commercial stone fruit orchards may receive compensation for losses associated with trees destroyed to control plum pox pursuant to an emergency action notification (EAN) issued by the Animal & Plant Health Inspection Service (APHIS). Owners of fruit tree nurseries may receive compensation for net revenue losses associated with movement or sale of nursery stock prohibited under an EAN issued by APHIS with respect to regulated articles within the nursery in order to control plum pox. Plum Pox is an extremely serious viral disease of plants that can affect many stone fruit species, including plum, peach, apricot, almond, and nectarine. APHIS will collect information using form PPQ 651 Application for Plum Pox Compensation.

Need and use of the information: APHIS will collect the owner's name and address, a description of the owner's property, and a certification statement that the trees removed from the owner's property were stone fruit trees from commercial fruit orchards or fruit tree nurseries. For claims made by owners of stone fruit orchards, the completed application must be accompanied by a copy of the EAN ordering the destruction of their trees, the notification's accompanying inventory describing the acreage and ages of trees removed and documentation verifying that the destruction of the trees have been completed and the date of that completion. For claims made by owners of fruit tree nurseries, the completed application must be accompanied by a copy of the EAN prohibiting the same or movement of the nursery stock, the notification's accompanying inventory describing the total number of trees covered by the EAN, their age and variety, and documentation indicating the final disposition of the nursery stock. Without the information APHIS would be unable to compensate eligible grove and nursery owners for their losses.

Description of Respondents: Farms.

Number of Respondents: 10.

Frequency of Responses: Reporting: On occasion.

Total Burden Hours: 5.

Animal and Plant Health Inspection Service

Title: Importation of Mangoes from the Philippines.

OMB Control Number: 0579-0172.

Summary of Collection: Under the Plant Protection Act (7 U.S.C. 7711-7714), the Secretary of Agriculture, either independently or in cooperation with the States, is authorized to carry out operations or measures to detect, eradicate, suppress, control, prevent, or retard the spread of plant pests new to the United States or not know to be widely distributed throughout the United States. The regulations in “Subpart—Fruits and Vegetables” (7 CFR 319.56 through 319.56-48) allow the importation of mangoes from Guimaras Island in the Republic of the Philippines into the United States under certain conditions. The regulations require the use of box marking to indicate the origin of the fruit, phytosanitary certificate to confirm that the fruit has been grown and treated in accordance with the regulations and a trust fund agreement between the Republic of the Philippines Department of Agriculture and the U.S. Department of Agriculture's Animal and Plant Health Inspection Service (APHIS) to cover the Agency's participation in the treatment and inspection activities in the Philippines that are required for the importation of mangoes.

Need and use of the information: APHIS will collect information from a variety of individuals who are involved in growing, packing, handling, transporting and exporting plants and plant products. The information APHIS collects serves as the supporting documentation for issuing PPQ forms and documents required to authorize release of restricted products, and allow movement of regulated products. The information APHIS collects is vital to helping ensure that injurious plant diseases and insect pest are not imported and do not spread into or within the United States.

Description of Respondents: Business or other for-profit; Farms; Federal Government.

Number of Respondents: 1,827.

Frequency of Responses: Reporting: On occasion.

Total Burden Hours: 121.

Ruth Brown,
Departmental Information Collection Clearance Officer.

[FR Doc. 2010-20995 Filed 8-23-10; 8:45 am]

BILLING CODE 3410-34-P